DEPARTMENT OF COMMERCE

National Oceanic and Atmospheric Administration

[Docket No. 050412101-5101-01; I.D. 041205B]

Ernest F. Hollings Undergraduate Scholarship Program

AGENCY: Office of Education and Sustainable Development (OESD), Office of the Undersecretary of Commerce for Oceans and Atmosphere (USEC), National Oceanic and Atmospheric Administration (NOAA), Commerce.

ACTION: Notice of program guidelines.

SUMMARY: NOAA provides notice of the availability of Ernest F. Hollings scholarship awards for FY 2005. The Ernest F. Hollings scholarship program was established through the Consolidated Appropriations Act, 2005. The Ernest F. Hollings scholarship program will provide selected undergraduate applicants with opportunities to increase recognition of and disciplined study in oceanic and atmospheric studies. There is no guarantee that sufficient funds will be available to make awards for all qualified applicants.

DATES: Applications for the Ernest F. Hollings scholarship program will be available on April 22, 2005. Completed applications must be received by 5 p.m. e.d.t. May 23, 2005.

ADDRESSES: Applications for the Earnest F. Hollings scholarship program will be available through ORISE at http://www.orau.gov/noaa/HollingsScholarship. If an applicant does not have Internet access, hardcopy applications can be requested by contacting NOAA/Hollings Scholarship, Oak Ridge Institute for Science and Education, P.O. Box 117, MS 36, Oak Ridge, TN 37831-0117; telephone: 865-576-3424.

FOR FURTHER INFORMATION CONTACT: NOAA/Hollings Scholarship, Oak Ridge Institute for Science and Education, telephone: 865-576-3424 or NOAA/OESD at noaa.education@noaa.gov or 202-482-3384.

SUPPLEMENTARY INFORMATION:

Background

The Ernest F. Hollings scholarship program was established through the Consolidated Appropriations Act, 2005 (Pub. L. 108-447). The purposes of the program include: (1) To increase undergraduate training in oceanic and atmospheric science, research, technology, and education and foster multidisciplinary training opportunities; (2) to increase public understanding and support for stewardship of the ocean and atmosphere and improve environmental literacy; (3) to recruit and prepare students for public service careers with the National Oceanic and Atmospheric Administration and other natural resource and science agencies at the Federal, state and local levels of government; and (4) to recruit and prepare students for careers as teachers and educators in oceanic and atmospheric science and to improve scientific and environmental education in the United States.

Hollings scholarship program will provide selected undergraduate applicants with awards that include academic assistance (up to a maximum of $8,000) for full-time study during the 9-month academic year; a 10-week, full-time internship position ($650/week) during the summer at a NOAA or partner facility; and, if reappointed, academic assistance (up to a maximum of $8,000) for full-time study during a second 9-month academic year. The internship between first and second years of award provides “hands-on” multi-disciplinary educational training experience involving Scholars in NOAA-related scientific, research, technological, policy, management, and education activities. Awards will also include a housing subsidy for scholars who do not reside at home during the summer internship and travel expenses for attendance and participation at a Hollings scholarship program conference at the completion of the internship.

The Hollings Scholarship program will consider applications from all eligible students including those that have received scholarship awards from other NOAA undergraduate scholarship programs. If selected as Hollings scholars, the program awards to students that have received awards from other NOAA undergraduate scholarship program will be adjusted based on the benefits of that other award for all years in which the award periods of the scholarship programs overlap. The total benefits during the coinciding award periods from the combined NOAA undergraduate scholarship programs in each award category (i.e., academic assistance, internship, housing subsidy, and travel expenses) shall not exceed the maximum benefits allowed under the Hollings program unless this level of support is provided in whole under the other NOAA scholarship award. The Hollings scholarship program internship requirement will also be waived if the scholar is obligated to a summer internship through a previous award from another NOAA undergraduate scholarship program.

Authority

The Ernest F. Hollings Undergraduate Scholarship Program is established by Administrator of the National Oceanic and Atmospheric Administration the under authority of the Consolidated Appropriations Act, 2005 (Pub. L. 108-447).

Congressionally Identified Awards and Projects (CFDA) CDFA, 11.469

Funding Availability

Approximately $3.9 million will be available for the award of approximately 110 two-year scholarships. There is no guarantee that sufficient funds will be available to provide scholarships for all qualified students.

Eligibility

Any undergraduate student may apply who is a U.S. citizen, is a rising sophomore enrolled or planning to matriculate as a junior-level, full-time student in Fall 2005 in an accredited college or university within the United States or U.S. Territories; demonstrates a cumulative 3.0 grade point average on a 4.0 scale (or equivalent on other identified scale) in all completed undergraduate courses and in the major field of study; and has declared a major in a discipline area that is related to oceanic and atmospheric science, research, technology, and education, and supportive of the purposes of NOAA's program's and mission.

Related discipline areas of study can include: Biological, life, and agricultural sciences; physical sciences; mathematics; engineering; computer and information sciences; social and behavioral sciences; and teacher education.

The Hollings Scholarship program will consider applications from all students that meet the above eligibility requirements including those that have received scholarship awards from other NOAA undergraduate scholarship programs. If selected as Hollings scholars, the program awards to students that have received awards from other NOAA undergraduate scholarship program will be adjusted based on the benefits of that other award for all years in which the award periods of the scholarship programs overlap. The total benefits during the coinciding award periods from the combined NOAA undergraduate scholarship programs in each award category (i.e., academic assistance, internship, housing subsidy, and travel expenses) shall not exceed the maximum benefits allowed under the Hollings program unless this level of support is provided in whole under the other NOAA scholarship award. The Hollings scholarship program internship requirement will also be waived if the scholar is obligated to a summer internship through a previous award from another NOAA undergraduate scholarship program.

Evaluation Criteria

Application will be evaluated based on the following criteria:

1. Academic record (30%).

2. Education plan and statement of career interest of student (30%).

3. Recommendations and/or endorsements (reference forms) of student (20%).

4. Additional relevant experience related to diversity of education; extracurricular activities; honors and awards; non-academic and volunteer work; interpersonal, written, and oral communications skills (20%).

Selection Process

An initial administrative review of applications is conducted to determine compliance with requirements and completeness of applications. Only complete applications in compliance with the requirement will be considered for review. Applications identified as incomplete or not in compliance with the requirements will be destroyed. Applicants will be notified as to the disposition of their applications. A panel of at least three persons will individually review and rate applications based on the evaluation criteria. A numerical ranking will be assigned to each application based on the average of the panelist's ratings. The Selecting Official, the Director of the Office of Education and Sustainable Development, will award in rank order unless the application is justified to be selected out of rank order based on one or more of the selection factors.

Selection Factors

In determining final awards, the selecting official reserves the right to consider the following selection factors:

1. Distribution of funds:

a. Across academic disciplines.

b. By types of institutions.

c. Geographically.

2. Availability of funds.

3. Program-specific objectives.

Repayment Requirement

An individual receiving a scholarship under this program shall be required to repay the full amount of the scholarship to the National Oceanic and Atmospheric Administration if it is determined that the individual, in obtaining or using the scholarship, engaged in fraudulent conduct or failed to comply with any term or condition of the scholarship.

Cost Sharing Requirements

There are no cost-sharing requirements.

Intergovernmental Review

Applications under this program are not subject to Executive Order 12372, “Intergovernmental Review of federal programs.”

Limitation of Liability

In no event will NOAA or the Department of Commerce be responsible for proposal preparation costs if this program is cancelled because of other agency priorities. Publication of this notice does not oblige NOAA to award any specific project or to obligate any available funds. Applicants are hereby given notice that funding for the Fiscal Year 2005 program is contingent upon the availability of Fiscal Year 2005 appropriations.

National Environmental Policy Act (NEPA)

As defined in sections 5.05 and Administrative or Programmatic Functions of NAO 216-6, 6.03.c.3, this is an undergraduate scholarship and internship program for which there are no cumulative effects. Thus, it has been categorically excluded from the need to prepare an Environmental Assessment.

DOC Pre-Award Notification Requirements for Grants and Cooperative Agreements

The Department of Commerce Pre-Award Notification Requirements for Grants and Cooperative Agreements contained in the Federal Register notice of December 30, 2004 (69 FR 78389) are applicable to this notice.

Paperwork Reduction Act

This notice announces an undergraduate scholarship and internship program and does not contain collection-of-information requirements subject to the Paperwork Reduction Act (PRA). Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: April 12, 2005.
George E. White,
Deputy Undersecretary for Oceans and Atmosphere, U.S. Department of Commerce.

[FR Doc. 05-8129 Filed 4-21-05; 8:45 am]

BILLING CODE 3510-KA-P